DEPARTMENT OF HOUSING AND URBAN DEVELOPMENT

[Docket No. FR-4558-N-01]

Mortgagee Review Board; Administrative Actions

AGENCY: Office of the Assistant Secretary for Housing-Federal Housing Commissioner, HUD.

ACTION: Notice.

SUMMARY: In compliance with Section 202(c) of the National Housing Act, notice is hereby given of the cause and description of administrative actions taken by HUD's Mortgagee Review Board against HUD-approved mortgagees.

FOR FURTHER INFORMATION CONTACT: Phillip A. Murray, Director, Office of Lender Activities and Program Compliance, Room B-133-3214 Plaza, 451 7th Street, SW, Washington, DC 20410, telephone: (202) 708-1515. (This is not a toll-free number.) A Telecommunications Device for Hearing and Speech-Individuals (TTY) is available at 1-800-877-8339 (Federal Information Relay Service).

SUPPLEMENTARY INFORMATION: Section 202(c)(5) of the National Housing Act (added by section 142 of the Department of Housing and Urban Development Reform Act of 1989, Public Law 101-235, approved December 15, 1989), requires that HUD “publish a description of and the cause for administrative actions against a HUD-approved mortgagee” by the Department's Mortgagee Review Board. In compliance with the requirements of Section 202(c)(5), notice is hereby given of administrative actions that have been taken by the Mortgagee Review Board from October 1, 1998 through September 30, 1999.

1. Title I Lenders and Title II Mortgagees That Failed To Comply With HUD/FHA Requirements for the Submission of an Audited Annual Financial Statement and/or Payment of the Annual Recertification Fee

ACTION: Withdrawal of HUD/FHA Title I lender approval and Title II mortgagee approval.

CAUSE: Failure to submit to the Department the required annual audited financial statement, an acceptable annual audited financial statement, and/or remit the required annual recertification fee.

Title I.—Lenders Withdrawn
Lender name | City | State
AAMES HOME LOAN | LOS ANGELES | CA
ACCESSIBLE MORTGAGE CORP | PITTSFIELD | MA
ACCURATE REALTY SERVICES INC | ENCINO | CA
ADVANTAGE FINANCIAL INC | CORAL SPRINGS | FL
AFFINITY FINANCE LLC | WALNUT CREEK | CA
AHWATUKEE MORTGAGE INVESTMENT | MESA | AZ
AIR GUARD FEDERAL CREDIT UNION | SIOUX FALLS | SD
ALBANY SAVINGS BANK | ALBANY | NY
ALL FLORIDA MORTGAGE INC | DAVIE | FL
AMERICAN BANTRUST MTG SER CORP | PHOENIX | AZ
AMERICAN DISCOUNT MORTGAGE INC | SCOTTSDALE | AZ
AMERICAN FIDELITY MTG SERVICES INC | NAPERVILLE | IL
AMERICAN FINANCIAL MORTGAGE CORPORATION | KING OF PRUSSIA. | PA
AMERICAN HOME MTG AND ASSOCIATES LC | PLANTATION | FL
AMERICAN LENDING CORPORATION | PORT ST LUCIE | FL
AMERICAN LIBERTY CAPITAL CORP | NEWPORT BEACH | CA
AMERICAN MARINE BANK | WINSLOW | WA
AMERICAN MORTGAGE COMPANY | NORTH PLATTE | NE
AMERICAN MORTGAGE FIN SVCS INC | COVINGTON | KY
AMERICAN MORTGAGE-LINE INC | ORANGE | CA
AMERICAN NATIONAL BANK UNION SPRINGS | UNION SPRINGS | AL
AMERICAN PACIFIC FUNDING | COLTON | CA
AMERICAN UNITED LENDERS | MISSION VIEJO | CA
AMERICAS FIRST HOME MORTGAGE CO INC | TUCKER | GA
AMERIFIRST MORTGAGE CORP | HEMPSTEAD | NY
AMERILOAN INC | ENGLEWOOD | CO
AMERIMORT FINANCIAL CORPORATION | SOUTH EL MONTE | CA
AMERIVEST MORTGAGE CORPORATION | TAMPA | FL
AMERUS MORTGAGE INC | WEST DES MOINES | IA
ANEW MORTGAGE INC | BAKERSFIELD | CA
ANTELOPE VALLEY MORTGAGE CO INC | LANCASTER | CA
APEX FINANCIAL GROUP INC | STOCKTON | CA
ASSOCIATED BANK NA | NEENAH | WI
ASSOCIATED LENDERS INC | SAN DIEGO | CA
ATLANTIC RICHFIELD CREDIT UN | PASADENA | TX
ATM MORTGAGE CORPORATION | SACRAMENTO | CA
AURORA NATIONAL BANK | AURORA | IL
AVALON LENDING GROUP INC | ALISO VIEJO | CA
BANCO POPULAR NA | LOS ANGELES | CA
BANK OF ASHLAND | ASHLAND | KY
BANK OF BUFFALO | COCHRANE. | WI
BANK OF LAKEWOOD | LAKEWOOD | CA
BANK OF PADEN CITY | PADEN CITY | WV
BANK OF POCAHONTAS | POCAHONTAS | AR
BANK OF WHITMAN | COLFAX | WA
BANKERS MORTGAGE CORPORATION | LOUISVILLE | KY
BANKERS MORTGAGE LENDING GR | DAVIE | FL
BARRON FINANCIAL SERVICE INC | IRVINE | CA
BAS FINANCIAL GROUP INC | FRESNO | CA
BC GROUP INC | ORANGE | CA
BCC CORPORATION | LOUISVILLE | KY
BETHESDA HOSPITAL FEDERAL C U | CINCINNATI | OH
BLAINE STATE BANK | BLAINE | MN
BLUE CHIP MORTGAGE BANKERS CORP | WESTBURY | NY
BLUEFIELDS INTERNATIONAL. | DOWNEY | CA
BOATMEN'S NATIONAL BANK CAPE GIRARDEAU | CAPE GIRARDEU | MO
BOATMEN'S NATIONAL BANK HOT SPRINGS | HOT SPRINGS | AR
BOATMEN'S NATIONAL BANK S ARKANSAS | CAMDEN | AR
CAL-STATE LENDERS INC | ANAHEIM | CA
CALIFORNIA FUNDERS MORTGAGE | RANCHO CUCAMONGA | CA
CAPITAL BANK | CARLSBAD | CA
CAROLINA MORTGAGE BROKERS | GREENSBORO | NC
CENTRAL NATIONAL BJ CANAJOHARIE | CANAJOHARIE | NY
CENTRAL WEST END BANK, FSB | ST LOUIS | MO
CENTURY BANK FSB | SANTA FE | NM
CENTURY FINANCIAL GROUP INC | NEWPORT BEACH | CA
CERTIFIED MORTGAGE BANKERS INC | CORAL GABLES | FL
CHEMICAL BANK BAY AREA | BAY CITY | MI
CHEMICAL BANK MICHIGAN | CLARE | MI
CHEMICAL FINANCIAL SER COR LTD | CLEVELAND | OH
CHESAPEAKE MORTGAGE SERV INC | COLUMBIA | MD
CITIFED DIVERSIFIED INC | SANTA ANA | CA
CITIZENS NATIONAL BANK | HOUSTON | TX
COASTLAND MORTGAGE CORPORATION | CARSON | CA
COLORADO CAPITAL FUNDING INC | IRVINE | CA
COMERICA BANK | DETROIT | MI
COMMERCE BANK PA | DEVON | PA
COMMERCIAL FINANCIAL SERVICES INC | TULSA | OK
COMMERCIAL TRUST AND SAVINGS | MITCHELL | SD
COMMERICIAL FEDERAL BANK | OMAHA | NE
COMMUNITY FIRST BANK | APPLETON CITY | MO
COMMUNITY FIRST NATIONAL BANK | CHEYENNE | WY
COMSTOCK BANK | RENO | NV
CONCORD MORTGAGE COMPANY | PHOENIX | AZ
CONSUMER FUNDING INC | RIVERSIDE | CA
CONTINENTAL HOME FUNDING CORP | MIAMI | FL
CORE FINANCIAL GROUP INC | COSTA MESA | CA
CORNERSTONE COMMERCIAL MTG LNS | MESA | AZ
CORNERSTONE LENDING CORPORATION | LOS ANGELES | CA
CORONA MORTGAGE | CORONA | CA
CPAC FINANCIAL CORPORATION | CANYON LAKE | CA
CREDIT MORTGAGE INC | SAN DIEGO | CA
CROSSROADS FUNDING CORP | COVINA | CA
CUSTOM FINANCIAL SERVICES | LONGWOOD | FL
CUYAHOGA SAVINGS ASSN | CLEVELAND | OH
D AND E MORTGAGE CORP | TAMPA | FL
DACOTAH BANK | ABERDEEN | SD
DENNIS JOSLIN COMPANY LL LLC | DYERSBURG | TN
DOMINION FINANCIAL SERVICES INC | LAKE WORTH | FL
DULANEY NATIONAL BANK | MARSHALL | IL
DYNAMIC FINANCIAL CORP | HIALEAH | FL
EASTERN BANK | LYNN | MA
EASTERN RESIDENTIAL MORTGAGE | BALTIMORE | MD
EASTLAND MORTGAGE CORPORATION | MISSION VIEJO | CA
EMPIRE MORTGAGE CORPORATION | MEMPHIS | TN
ENVOY CAPITAL CORP | TORRANCE | CA
EPOCH ENTERPRISES INC | SOLANA BEACH | CA
EQUITRUST MORTGAGE CORPORATION | GULFPORT | MS
ERIE SHORE MORTGAGE | ELYRIA | OH
EVERGREEN MORTGAGE CORPORATION | GRAND RAPIDS | MI
EXCEL BANK | EDINA | MN
EXCHANGE BANK | MILLEDGEVILLE | GA
EZ LENDING INC | FT LAUDERDALE | FL
F AND M BANK MASSANUTTEN NA | HARRISONBURG | VA
FAIRMONT FEDERAL CREDIT UNION | FAIRMONT | WV
FAITH FINANCIAL GROUP | MIAMI LAKES | FL
FCM CORPORATION DBA FINANCIAL CENTER MTG | NEWHALL | CA
FEDERAL FINANCE CORPORATION | CHICAGO | IL
FEDERAL MORTGAGE FUNDING | LEMON GROVE | CA
FEDERAL STANDARD MTG BKING CORP | LITTLE NECK | NY
FEDERATED MORTGAGE COMPANY INC | COVINA | CA
FIDELITY BOND AND MORTGAGE COMPANY. | BLUE BELL | PA
FINANCE PLUS MORTGAGE CORP | TEMECULA | CA
FINANCIAL SERV MORTGAGE CORP | IRVINE | CA
FIRST ALLIANCE MORTGAGE COMPANY | BLOOMFIELD HILLS | MI
FIRST BANK | CREVE COEUR | MO
FIRST CAPITAL FINANCIAL CORP | REDONDO BEACH | CA
FIRST CENTURY BANK NA | BLUEFIELD | WV
FIRST CHOICE BANK | GREELEY | CO
FIRST CLASS AMERICAN CU | FORT WORTH | TX
FIRST COMMERCIAL BANK NA | LITTLE ROCK | AR
FIRST FEDERAL SAVINGS BANK-COLORADO | LAKEWOOD | CO
FIRST FINANCIAL MORTGAGE CORP | AKRON | OH
FIRST GOVERNMENT MORTGAGE AND INV CORP | LANDOVER | MD
FIRST GUARANTY MORTGAGE CORPORATION | MCLEAN | VA
FIRST HOME SAVINGS BANK | PENNS GROVE | NJ
FIRST ILLINOIS BANK | E ST LOUIS | IL
FIRST INVESTORS MORTGAGE CORP | MIAMI | FL
FIRST MORTGAGE GROUP LLC | MARIETTA | GA
FIRST NATIONAL BANK | KILLEEN | TX
FIRST NATIONAL BANK | BOWBELLS | ND
FIRST NATIONAL BANK | GLEN HEAD | NY
FIRST NATIONAL BANK | CRYSTAL FALLS | MI
FIRST NATIONAL BANK | TEMPLE | TX
FIRST NATIONAL BANK | PARSONS | KS
FIRST NATIONAL BANK | MISSOURI CITY | TX
FIRST NATIONAL BANK | LAS ANIMAS | CO
FIRST NATIONAL BANK | WILLIAMSOM | WV
FIRST NATIONAL BANK CONWAY | CONWAY | AR
FIRST NATIONAL BANK EVERGREEN PARK | EVERGREEN PARK | IL
FIRST NATIONAL BANK GRAPEVIEW | GRAPEVINE | TX
FIRST NATIONAL BANK IN CANNON FALLS | CANNON FALLS | MN
FIRST NATIONAL BANK OF CENTRAL FLORIDA | LONGWOOD | FL
FIRST NATIONAL BANK-CHICAGO | CHICAGO | IL
FIRST POTOMAC MORTGAGE CORPORATION | FAIRFAX | VA
FIRST PREFERENCE MGT CORP | BALTIMORE | MD
FIRST QUALITY FUNDING INC | WALNUT CREEK | CA
FIRST SAVINGS BANK SLA | BAYONNE | NJ
FIRST SECURITY MORTGAGE CORP | COLUMBIA | SC
FIRST SELECT FINANCIAL INC | DOWNEY | CA
FIRST STATE BANK | HONEY GROVE | TX
FIRST STATE BANK | PARAMOUNT | CA
FIRST STORY MORTGAGE CORPORATION | RANCHO CUCAMONGA | CA
FIRST TOWN MORTGAGE CORPORATION | ATLANTA | GA
FIRST TRUST FINANCIAL INC | RANDOLPH | MA
FIRST TRUST OF ILLINOIS | CHICAGO | IL
FIRSTAR BANK NA | OWENSBORO | KY
FIRSTPLUS FINANCIAL INC | DALLAS | TX
FIRSTPLUS INVESTMENT CORP | DALLAS | TX
FIRSTRUST SAVINGS BANK | PHILADELPHIA | PA
FLAGSHIP FEDERAL SAVINGS BANK | SAN DIEGO | CA
FREEDOM LENDING CENTER INCORPORATED | CASSELBERRY | FL
FREMONT INVESTMENT AND LOAN | ANAHEIM | CA
FTF MORTGAGE CORPORATION | IRVINE | CA
FULLERTON MORTGAGE ESCROW CO | OCEANSIDE | CA
GELT FINANCIAL CORPORATION | SOUTHHAMPTON | PA
GERING STATE BANK AND TRUST CO | GERING | NE
GLEN ROCK SAVINGS AND LOAN ASSOC | GLEN ROCK | NJ
GLENDORA MORTGAGE INC | GLENDORA | CA
GML MORTGAGE INC | SACRAMENTO | CA
GOLD COAST FUNDING GROUP INC | DAVIE | FL
GOLDEN INVESTMENTS OF AMERICA INC | SAN MARINO | CA
GOLDENWEST CREDIT UNION | OGDEN | UT
GRACO EMPLOYEES CREDIT UNION | MINNEAPOLIS | MN
GREAT FIVE PERCENT REAL EST CO | COVINA | CA
GREAT PLAINS PROVISIONERS CR U | OMAHA | NE
GUARANTY FEDERAL SAVINGS BANK | DALLAS | TX
GULF FINANCIAL SERVICES INC | BLAIRSVILLE | GA
H AND R MORTGAGE INC | BAKERSFIELD | CA
HALLMARK GOVERNMENT MORTGAGE INC | BELLEVUE | WA
HARBOR FINANCIAL MORTGAGE CORP | HOUSTON | TX
HARBOR VIEW MORTGAGE INC | NEWPORT BEACH | CA
HEALTH EMPLOYEES FEDERAL CR UN | ALBANY. | NY
HERITAGE BANK NA | WILLMAR | MN
HERSHEY STATE BANK | HERSHEY | NE
HOLMGREN AND ASSOCIATES | OAKLAND | CA
HOME LOAN ASSISTANCE CENTER INC | ALTAMONT SPRINGS | FL
HOME LOANS INC | MIAMI | FL
HOME MORTGAGE INC | PHOENIX | AZ
HOMEOWNERS MORTGAGE AND EQUITY INC | AUSTIN | TX
HOMESTEAD REAL ESTATE FINANCING INC | SAN RAMON | CA
HURON NATIONAL BANK | ROGERS CITY | MI
IDEAL FINANCIAL CORPORATION | ELLICOTT CITY | MD
IMAGE MORTGAGE INC | TEMECULA | CA
INDEPENDENT CONSUMER MTG CORP | GAINESVILLE | GA
INTERCOASTAL MORTGAGE CO AND ASSOC INC | ORLANDO | FL
JANDEL GROUP LLC | SCOTTS DALE | AZ
JONATHAN FUNDING GROUP INC | MARINA DEL REY | CA
JP MORTGAGE INC | NORTH MIAMI | FL
JUDITH O SMITH MORTGAGE GROUP INC | FORT WORTH | TX
KENNETT NATIONAL BANK | KENNETT | MO
KENNY FINANCIAL SERVICES INC | WEST CHESTER | PA
KERMIT STATE BANK | KERMIT | TX
KEY MORTGAGE CORPORATION | EDINA | MN
KEYBANK NA | SEATAC | WA
KEYBANK NATIONAL ASSOCIATION | FORT COLLINS | CO
KEYSTONE MORTGAGE CORP INC | KEYSTONE | WV
LAD FINANCIAL. | SAN DIEGO | CA
LBVAMC FEDERAL CREDIT UNION | LONG BEACH | CA
LEHMAN BROTHERS HOLDINGS INC | NEW YORK | NY
LEXINGTON SAVINGS BANK | LEXINGTON | MA
LIBERTY FINANCIAL R E FUNDING CORP | CLEARWATER | FL
LIDD ENTERPRISES INC | PASADENA | CA
LOAN SOURCE ONE FUNDING INC | WALNUT | CA
MAGNUM CAPITAL GROUP INC | MONARCH BEACH | CA
MARATHON HOME LENDING | TUSTIN | CA
MARICOPA SANTA FE FED C U | PHOENIX | AZ
MASTERS FUNDING GROUP INC | RIVERSIDE | CA
MAXIMA FINANCIAL GROUP | TEMPE | AZ
MEDALLION MORTGAGE CO | SCOTLAND | CT
MELLON BANK DE NA | WILMINGTON | DE
MERCANTILE BANK ARKANSAS | NORTH LITTLE ROCK | AR
METRO MORTGAGE CORPORATION | COLUMBIA | SC
METROPOLITAN FINANCIAL INC | ORANGE | CA
METROPOLITAN HOME MORTGAGE CORP OF NY | EAST NORWICH | NY
MICAL MORTGAGE | SAN DIEGO | CA
MICHIGAN NATIONAL BANK | FARMINGTON HILLS | MI
MIDAMERICA BANK NORTH | PHILLIPS | WI
MIDAMERICA BANK STOUGHTON | STOUGHTON | WI
MIDWEST AMERICA FINANCIAL CORPORATION | CHICAGO | IL
MINNWEST BANK | DAWSON | MN
MISSION NATIONAL BANK | SAN FRANCISCO | CA
MONEYLINE FINANCIAL SERVICES INC | ST LOUIS | MO
MORNING STAR REAL EST AND MTG FIN CORP | MASSAPEQUA | NY
MORTGAGE CENTER CORPORATION | MILLBRAE | CA
MORTGAGE ENTERPRISES INC | LYONS | IL
MORTGAGE FEDERAL CORPRORATION | CLEVELAND | OH
MORTGAGE NETWORK INC | SALT LAKE CITY | UT
MORTGAGE SERVICE CENTER OF SOUTH FLORIDA | TAMARAC | FL
MOUNTAIN NATIONAL BANK | WOODLAND PARK | CO
MUNDACA FINANCIAL SERVICES LLC | FRANKLIN | TN
MUNICIPAL CREDIT UNION | NEW YORK | NY
MUTUAL FEDERAL SAVINGS BANK | ATLANTA | GA
MUTUAL SAVINGS ASSO | LEAVENWORTH | KS
NATIONAL BANK OF CALIFORNIA. | LOS ANGELES | CA
NATIONAL EQUITY CORPORATION | IRVINE | CA
NATIONAL HOME MORTGAGE BANKING CORP | HAUPPAUGE | NY
NATIONAL SECURITY BANK | PORTLAND | OR
NAVIGATION BANK | HOUSTON | TX
NBD BANK NA | DETROIT | MI
NEIGHBORHOOD HOUSING SERVICES | NEW YORK | NY
NEVADA FEDERAL FINANCIAL CORP | LAS VEGAS | NV
NEW HOMES MORTGAGE INC | SHERMAN OAKS | CA
NOREAST MORTGAGE CORPORATION | ONTARIO | CA
NORTH FORK FINANCIAL INC | NEWPORT BEACH | CA
NORTH PACIFIC BANK | TACOMA | WA
NORTH VIEW MORTGAGE INC | POWAY | CA
NORTHERN FINANCIAL MTG CO. | CHAGRIN FALLS | OH
NORTHERN STATES POWER ST PAUL CU | SAINT PAUL | MN
NORWEST BANK TEXAS NA | SAN ANTONIO | TX
OLD REDWOOD MORTGAGE COMPANY. | SANTA ROSA | CA
ON-LINE MORTGAGE EXPRESS | UPLAND | CA
OREGON FEDERAL CREDIT UNION | COQUILLE | OR
OREGONIAN FEDERAL CREDIT UN | PORTLAND | OR
ORNL FEDERAL CREDIT UNION | OAK RIDGE | TN
P F G INC | ENCINO | CA
PACIFIC BAY BANK | SAN PABLO | CA
PACIFIC EMPIRE FUNDING | LAKE FOREST | CA
PACIFIC MUTUAL FUNDING INC | BREA | CA
PALACE CITY FEDERAL C U | MITCHELL | SD
PARISH BANK TRUST COMPANY | MOMENCE | IL
PENN FEDERAL SAVINGS BANK | WEST ORANGE | NJ
PENNIES TO MILLIONS INC | UPLAND | CA
PEOPLES MORTGAGE CORPORATION | LIVINGSTON | NJ
PERRY STATE BANK | PERRY | MO
PHOENIX HOME LENDING INC | TEMPE | AZ
PIONEER ENTERPRISE CORPORATION | SUGAR LAND | TX
PIONEER FINANCIAL INC | CHATTANOOGA | TN
PIONEER MORTGAGE INC | HADDON HEIGHTS | NJ
PIONEER SAVINGS AND LOAN ASSN FSLA | IRVINE | CA
PLATINUM MORTGAGE INC. | ROSEVILLE | MN
PLAZA CAPITAL CORP | SANTA FE | NM
POLLARI WRIGHT INC | SAN JOSE | CA
PREFERRED CREDIT CORPORATION | IRVINE | CA
PREFERRED FUNDING CORP | FORT LAUDERDALE | FL
PRESERV FINANCIAL INC | DENVER | CO
PRESTIGE FINANCIAL SVCS CORP | DEERFIELD BEACH | FL
PRIME FINANCIAL NETWORK INC | LA JOLLA | CA
QUALITY FINANCING CORP | CHICAGO | IL
QUEEN CITY FEDERAL SAVINGS BANK | VIRGINIA | MN
R K MAGUIRE INC | DANA POINT | CA
REFCO MORTGAGE AND FINANCIAL SER INC | CHICAGO | IL
REI INC | ORANGE | CA
REPUBLIC MORTGAGE CORPORATION | NAMPA | ID
RES-COM MORTGAGE CORP | NILES | IL
RESIDENTIAL MORTGAGE NETWORK INC | CEDAR RAPIDS | IA
REV CORP | NORTHBROOK | IL
RICK BAILEY MORTGAGE UNLIMITED INC | ARCATA | CA
ROXBURY-HIGHLAND CO-OPERATIVE | JAMAICA PLAIN | MA
RUSHMORE STATE BANK | RAPID CITY | SD
S MORTGAGE CORPORATION | FAIR OAKS | CA
SACVAL MORTGAGE CORPORATION | CITRUS HEIGHTS | CA
SAND DOLLAR MORTGAGE SER INC | CHINO | CA
SASCO INC | ENCINO | CA
SECURITY BANK | MADISON | SD
SECURITY BANK AND TRUST CO. | LAWTON | OK
SECURITY FIRST FUNDING | COVINA | CA
SECURITY MORTGAGE CORP OF MISS | JACKSON | MS
SOCIETY FINANCIAL CORP | FARMINGTON | CT
SOUTH PLAINS FEDERAL CU | LUBBOCK | TX
SOUTH TEXAS NATIONAL BANK | LAREDO | TX
SOUTHERN STATES FUNDING | WINTER PARK | FL
SOUTHFORK MORTGAGE COMPANY CORP | RIVERSIDE | CA
SOUTHWEST BENEFICIAL FIN INC | DALLAS | TX
SOUTHWEST KANSAS NATIONAL BANK | ULYSSES | KS
SOVEREIGN BANK FSB | WYOMISSING | PA
SPARTAN MORTGAGE INC | SAVANNAH | GA
SPECTRUM MORTGAGE CORP | ENGLEWOOD | CO
STALLION CAPITAL INC | RANCHO CUCAMONGA. | CA
STATE CAPITOL FEDERAL CU | SAINT PAUL | MN
STATE CENTER CREDIT UNION | FRESNO | CA
STATEWIDE FUNDING INC | WOODLAND HILLS | CA
STATEWIDE VENTURES | GRASS VALLEY | CA
STELLAR INVESTMENTS FINAN SERV | BREA | CA
STUART-WRIGHT MTG FUNDING CORP | MURRAY | UT
SULLIVAN AND MOCK CORP OF-NEV | LAS VEGAS | NV
SUN COUNTRY BANK | APPLE VALLEY | CA
SUN HARBOR MORTGAGE INC | SAN DIEGO | CA
SUN PACIFIC FUNDING INC | SANTA ANA | CA
SUNTRUST FINANCIAL CORP | HOLLYWOOD | FL
SUNWEST BANK OF SANTA FE | SANTA FE | NM
TAMMAC CORPORATION | WILKES-BARRE | PA
TCS MORTGAGE INC | SAN DIEGO | CA
TENNESSEE BANK AND TRUST | MEMPHIS | TN
THE FEDERAL SAVINGS BANK | WALTHAM | MA
THE FIRST NATIONAL BANK | PORTAGE | WI
THE FIRST NATIONAL BANK | LA JARA | CO
THE-BANK-FIRST CITIZENS BANK | CLEVELAND | TN
THE-NORTHERN TRUST COMPANY | CHICAGO | IL
TMMG INC | LAGUNA HILLS | CA
TOOELE FEDERAL CREDIT UNION | TOOELE | UT
TREASURE COAST MORTGAGE CORP | PORT ST LUCIE | FL
TREO FUNDING | LAKE OSEWGO | OR
TURNER MORTGAGE CORPORATION | MIAMI LAKES | FL
U S EMPLOYEES CREDIT UNION | HOUSTON | TX
U S MORTGAGE INC | LITTLE ROCK | AR
UBS MORTGAGE FINANCE INC | NEW YORK | NY
UNIFED MORTGAGE CORP | ESCONDIDO | CA
UNION FEDERAL MORTGAGE INC | IRVINE | CA
UNION PLANTERS BANK MID-MO. | COLUMBIA | MO
UNITED HOME LENDING SERVICES INC | CHARLESTON | WV
UNITED LENDING COMPANIES INC | RAMSEY | NJ
UNIVERSAL MORTGAGE INC | JACKSONVILLE | FL
UNIVERSITY MORTGAGE INC | CHEVY CHASE | MD
US CREDIT CORP | AURORA | CO
US LENDS | ORANGE | CA
US MORTGAGE CONSULTANTS INC | LAS VEGAS | NV
USA MORTGAGE CORP | ELMWOOD PARK | IL
VANGUARD LENDING GROUP | ATASCADERO | CA
VILLA PARK TRUST AND SAVINGS | VILLA PARK | IL
W D WICKLEY INC | RANCHO CUCAMONGA | CA
WALL STREET FUNDONG GROUP | RANCHO CUCAMONGA | CA
WEALTHWISE INVESTMENT CORP | MILPITAS | CA
WESTERN CAPITAL FUNDING INC | WILDOMAR | CA
WESTERN HOME MORTGAGE CORP | IRVINE | CA
WESTERN NATIONAL FUNDING INC | NEWPORT BEACH | CA
WESTMINSTER MORTGAGE CORPORATION | ATLANTA | GA
WESTSTAR FINANCIAL GROUP INC | SAN DIEGO | CA
WESTWIND FINANCIAL CORPORATION | HUNTINGTON BEACH | CA
WOHLETZ ENTERPRISES INC | KIRKLAND | WA

Title II.—Mortgagees Withdrawn
Mortgagee name | City | State
A AND C MORTGAGE CORPORATION | NORTH CHARLESTON | SC
A B C BANK | CHICAGO | IL
A ONE MORTGAGE CORP | MIAMI | FL
A-PAN-AMERICAN MORTGAGE GROUP | CHICAGO | IL
AAACTION MORTGAGE INC | FREMONT | CA
AAMBASSADOR MORTGAGE SVCS CORP | PALOS HEIGHTS | IL
ABSOLUTE ACCEPTANCE FINANCIAL CO LLC | SOUTHFIELD | MI
ABSOLUTE FINANCIAL CORPORATION | BLUE BELL | PA
ACACIA MORTGAGE | GREENWOOD VILLAGE | CO
ACCENT MORTGAGE INC | ZACHARY | LA
ACCURATE REALTY SERVICES INC | ENCINO | CA
ADAM MORGTAGE COMPANY | BRYAN | TX
ADVANCED FINANCIAL INC | ARVADA | CO
ADVANCED HOME LOAN INC | ROUND ROCK | TX
ADVANTAGE FINANCIAL FUNDING CORPORATION | EXTON | PA
ADVANTAGE FINANCIAL INC | TAMATAC | FL
ADVANTAGE REAL ESTATE LOANS INC | ARROYO GRANDE | CA
AHMANSON MORTGAGE COMPANY | TIGARD | OR
AJA FINANCIAL LLC | MIDDLESEX | NJ
ALL STATE MORTGAGE SERVICES INC | COLORADO SPRINGS | CO
ALLEGIANCE MORTGAGE CORP LLC | ATLANTA | GA
ALLIED FINANCIAL SERVICES INC | BIRMINGHAM | AL
ALPHA CAPITAL FINANCIAL INC | WOODLAND HILLS | CA
AMERICAN BANKER DIVERS LENDING | LA CRESCENTA | CA
AMERICAN CHOICE MORTGAGE CORP | MIAMI | FL
AMERICAN EAGLE LENDING SRVS | PROVO | UT
AMERICAN EAGLE MORTGAGE CORP | CLEVELAND | OH
AMERICAN FEDERAL BANK FSB | GREENVILLE | SC
AMERICAN FINANCIAL MORTGAGE CORP | KING OF PRUSSIA | PA
AMERICAN HOME FINANCE INC | PALATINE | IL
AMERICAN HOME LENDERS CORP | SAN MARCOS | CA
AMERICAN LENDING CORPORATION | PORT ST LUCIE | FL
AMERICAN MONEY MARKET INC | HIALEAH | FL
AMERICAN MORTGAGE—FINANCIAL SVCS INC | COVINGTON | KY
AMERICAN MORTGAGE INV SVCS INC | POOLER | GA
AMERICAN MORTGAGE-LINE INC | ORANGE | CA
AMERICAN NATIONAL MORTGAGE CORP | TOTOWA | NJ
AMERICAN NATIONAL SAVINGS ASSO | BALTIMORE | MD
AMERICAN PACIFIC FUNDING | COLTON | CA
AMERICAN RESIDENTIAL FUNDING INC | SANTA ANA | CA
AMERICAN UNITED LENDERS INC | MISSION VIEJO | CA
AMERIFIRST MORTGAGE CORP | HEMPSTEAD | NY
AMPHIBIOUS BASE FEDERAL CR UNION | NORFOLK | VA
AMSTERDAM SAVINGS BANK | AMSTERDAM | NY
APEX MORTGAGE LLC | OREM | UT
APLEND COMPANY | BROOKS | ME
ARBORETUM MORTGAGE CORP | SEATTLE | WA
ARKANSAS FIDELITY MORTGAGE CORP | LITTLE ROCK | AR
ASPEN MORTGAGE BROKERS LC | OGDEN | UT
ASSOCIATED LENDERS INC | SAN DIEGO | CA
ASSURANCE CAPITAL MORTGAGE LLC | TULSA | OK
ATLANTIC STATES FINANCIAL INC | TAMARAC | FL
ATLANTIC TRUST MORTGAGE | MIAMI | FL
BANCO POPULAR NA | LOS ANGELES | CA
BANCTRUST INC | CHICAGO | IL
BANK OF ARIZONA | SCOTTSDALE | AZ
BANK OF ASHLAND | ASHLAND | KY
BANK OF BELFAST—MARSHALL CNTY | LEWISBURG | TN
BANK OF COLORADO WESTERN SLOPE | GRAND JUNCTION | CO
BANK OF FRANKLIN | MEADVILLE | MS
BANK OF GWINNETT COUNTY | LAWRENCEVILLE | GA
BANK OF MATTESON | MATTESON | IL
BANK OF NEW MEXICO ALBUQUERQUE | ALBUQUERQUE | NM
BANK OF SANTA MARIA | SANTA MARIA | CA
BANK OF SUMNER | SUMNER | WA
BANK OF UNION | MONROE | NC
BANK OF-SOUTH WINDSOR | SOUTH WINDSOR | CT
BANKERS AFFILIATED MORTGAGE | RIVERSIDE | CA
BANKERS DIRECT MORTGAGE CORP | WEST PALM BEACH | FL
BANKERS MUTUAL MORTGAGE INC | NEWPORT BEACH | CA
BANKERS SAVINGS BANK | CORAL GABLES | FL
BANKFIRST | KNOXVILLE | TN
BCC CORPORATION INC | LOUISVILLE | KY
BELFORD PARTNERS INC | DENVER | CO
BELMONT SAVINGS BANK | BELMONT | MA
BENCHMARK FED SAV BANK | CINCINNATI | OH
BENEFICIAL NATIONAL BANK | WILMINGTON | DE
BENEFIT MORTGAGE CORPORATION | CAMP SPRINGS | MD
BERKSHIRE LIFE INSURANCE CO | PITTSFIELD | MA
BEST MORTGAGE CORPORATION | HARKER HEIGHTS | TX
BEVERLY NATIONAL BANK | WILMINGTON | IL
BLUE CHIP MORTGAGE BANKERS CORP | WESTBURY | NY
BOATMEN'S FIRST NATIONAL BANK-AMARILLO | AMARILLO | TX
BOATMEN'S NATIONAL BANK BATESVILLE | BATESVILLE | AR
BOATMEN'S NATIONAL BANK CAPE GIRARDEAU | CAPE GIRARDEAU | MO
BOATMEN'S NATIONAL BANK N CENTRAL AR | HARRISON | AR
BOATMEN'S RIVER VALLEY BANK | LEXINGTON | MO
BROWARD SCHOOLS DIST CU | LAUDERHILL | FL
BROWNSVILLE DEPOSIT BANK | BROWNSVILLE | KY
BUCKS COUNTY MORTGAGE CORPORATION | NEWTON | PA
BUY OWNER MORTGAGE COMPANY | TAMPA | FL
CAL PLAZA MORTGAGE COMPANY | SAN DIEGO | CA
CALIFORNIA CAPITAL MORTGAGE | SACRAMENTO | CA
CALIFORNIA FUNDERS MTG | ONTARIO | CA
CAPRI MORTGAGE CAPITAL LLC | CHICAGO | IL
CAREY KRAMER CO N FL | TAMPA | FL
CAROLD CORP | NEW YORK | NY
CAROLINA CAPITAL MARKETS LLC | COLUMBIA | SC
CAYUGA MORTGAGE COMPANY | ITHACA | NY
CBS MORTGAGE CORP | HOUSTON | TX
CERRITOS VALLEY BANK | NORWALK | CA
CHANNEL ISLANDS NATIONAL BANK | OXNARD | CA
CHASE MORTGAGE SERVICES INC | TAMPA | FL
CHEMICAL BANK BAY AREA | BAY CITY | MI
CHEYENNE WESTERN BANK | ASHLAND | MT
CHINA TRUST BANK NEW YORK | NEW YORK | NY
CITIFED DIVERSIFIED INC | SANTA ANA | CA
CITIZENS BANK | COLLIERVILLE | TN
CITIZENS BANK | CARTHAGE | TN
CITIZENS BANK AND TRUST CO | HUTCHINSON | MN
CITIZENS CORPORATION MORTGAGE | FRANKLIN | TN
CITIZENS NATIONAL BANK | TELL CITY | IN
CITY NATIONAL BANK OF PITTSBURG | PITTSBURG | KS
CLAYTON NATIONAL INC | SHELTON | CT
COASTAL FEDERAL MORTGAGE CO | MANALAPAN | NJ
COASTAL FEDERAL MORTGAGE INC | MYRTLE BEACH | SC
COASTAL MORTGAGE COMPANY | PARMA | OH
COASTLAND MORTGAGE CORPORATION | CARSON | CA
COLOMBO SAVINGS BANK FSB | BETHESDA | MD
COLONIAL BANK ST LOUIS | DES PERES | MO
COLORADO CAPITAL FUNDING CORP | ENGLEWOOD | CO
COMMERCIAL BANK | SALEM | OR
COMMERCIAL BANK OF NEVADA | LAS VEGAS | NV
COMMERCIAL FINANCIAL SERVICES INC | TULSA | OK
COMMONPOINT MORTGAGE COMPANY | KENTWOOD | MI
COMMUNITY BANK | STAUNTON | VA
COMMUNITY FEDERAL SAVINGS ALA | TUPELO | MS
COMMUNITY FIRST MORTGAGE INC | SAN LUIS OBISPO | CA
COMMUNITY FIRST NATIONAL BANK | CHEYENNE | WY
COMMUNITY LENDERS GROUP | DULUTH | GA
COMMUNITY NATIONAL BANK NJ | MARLTON | NJ
COMPASS BANK | SAN ANTONIO | TX
COMPASS BANK FSB | FORT WALTON BEACH | FL
CONCEPT CAPITAL MORTGAGE CORPORATION | CANYON COUNTRY | CA
CONSUMER DIRECT MORTGAGE INC | DALLAS | TX
CONSUMERS CHOICE MORTGAGE CORP | DELRAN | NJ
CONTINENTAL GENERAL MORTGAGE | BALTIMORE | MD
CONTINENTAL HOME FUNDING CORP | MIAMI | FL
CORE FINANCIAL GROUP INC | COSTA MESA | CA
CORNERSTONE LENDING CORP | LOS ANGELES | CA
CREDIT UNION MORTGAGE COMPANY | PORTAGE | MI
CRESCENT CREDIT UNION | BROCKTON | MA
CROSS COUNTY FEDERAL SAVINGS BANK | MIDDLE VILLAGE | NY
CROSSROADS FUNDING CORP | COVINA | CA
D AND E MORTGAGE CORP | TAMPA | FL
DALLAS PLANNING GROUP | WAXAHACHIE | TX
DALLAS POSTAL CREDIT UNION | DALLAS | TX
DEGEORGE CAPITAL CORP | CHESHIRE | CT
DELMAR MORTGAGE INC | BOCA RATON | FL
DENNIS JOSLIN COMPANY LL LLC | DYERSBURG | TN
DEPOSIT GUARANTY MORTGAGE CO | JACKSON | MS
DEPOSIT GUARANTY MORTGAGE SERV | JACKSON | MS
DESERT SERVICES INC | RICHLAND | WA
DESTIN BANK | DESTIN | FL
DEUEL COUNTY NATIONAL BANK | CLEAR LAKE | SD
DIADCO FINANCIAL SERVICES INC | COVINA | CA
DIME SAVINGS BANK | NORWICH | CT
DIME SAVINGS BANK WALLINGFORD | WALLINGFORD | CT
DIMENSIONS MORTGAGE CORP | SAN DIEGO | CA
DIVERSIFIED EQUITIES INC | BATTLEGROUND | WA
DOLPHIN MORTGAGE CO | MIAMI | FL
DRAPER AND KRAMER INC | CHICAGO | IL
DRH MORTGAGE COMPANY LTD | PLANO | TX
DRUMMOND COMMUNITY BANK | CHIEFLAND | FL
DUCHESNE BANK | ST PETERS | MO
DYNAMIC FINANCIAL CORP | HIALEAH | FL
EAGLE MORTGAGE CORPORATION | WOODBURY | MN
EASTERN MORTGAGE SERVICES INC | TREVOSE | PA
EASTERN RESIDENTIAL MORTGAGE | COLUMBIA | MD
EASTON MORTGAGE CORPORATION | SAN FRANCISCO | CA
EDGE FINANCIAL CORPORATION | AURORAE | CO
EINBINDER MANAGEMENT MORTGAGE CORP | MATAWAN | NJ
ELVERSON NATIONAL BANK | ELVERSON | PA
ENTERPRISE MORTGAGE CORPORATION | APOPKA | FL
EPOCH ENTERPRISES INC | SOLANA BEACH | CA
EQUIFUND MORTGAGE CORPORATION | CAPE CANAVERAL | FL
EQUITABLE LIFE ASSUR SOC | ATLANTA | GA
EQUITABLE REAL ESTATE INV MNGT | ATLANTA | GA
EQUITRUST MORTGAGE CORPORATION | GULFPORT | MS
EVERGLADES FEDERAL CU | CLEWISTON | FL
EXECUTIVE FIRST MORTGAGE CORP | FRESNO | CA
EXPERT MORTGAGE BROKERS LLC | VANCOUVER | WA
EZ LENDING INC | LAUDERHILL | FL
FAMILY BANK FSB | PAINTSVILLE | KY
FARMERS AND MERCHANTS BANK | PRAIRIE GROVE | AR
FARMERS AND MERCHANTS BANK | HURON | SD
FARMERS NATIONAL BANK | SCOTTSVILLE | KY
FARMERS NATIONAL BANK | DANVILLE | KY
FEDERAL FINANCE CORPORATION | CHICAGO | IL
FEDERAL SAVINGS BANK | WALTHAM | MA
FEDERATED MORTGAGE COMPANY INC | COVINA | CA
FEDERATION FINANCIAL INSTITUTIONS LLC | ATLANTA | GA
FIDELITY BOND AND MORTGAGE CO | BLUE BELL | PA
FIDELITY NATIONAL FUNDING CORP | RAPID CITY | SD
FINANCE FACTORS LTD | HONOLULU | HI
FINANCIAL NETWORK SERVICES | VAN NUYS | CA
FINANCIAL SERVICES MTG CORP | IRVINE | CA
FIRST BANK | MCKINNEY | TX
FIRST BANK ARKANSAS | JONESBORO | AR
FIRST CAPITAL FINANCIAL CORP | REDONDO BEACH | CA
FIRST CITIZENS BANK | BILLINGS | MT
FIRST COMMERCIAL BANK NA | LITTLE ROCK | AR
FIRST COMMERCIAL BANK NA MEMPHIS | MEMPHIS | TN
FIRST EQUITY RESIDENTIAL MORTGAGE INC | CHELSEA | MI
FIRST FEDERAL SAVINGS ALA | LYNCHBURG | VA
FIRST FEDERAL SAVINGS AND LOAN | WOOSTER | OH
FIRST FEDERAL SAVINGS BANK | NEW CASTLE | PA
FIRST GOVERNMENT MORTGAGE AND INVEST COR | LANDOVER | MD
FIRST HOME SAVINGS BANK SLA | PENNSVILLE | NJ
FIRST MANHATTAN FUNDING INC | WESTCHESTER | CA
FIRST MORTGAGE CORPORATION | WACO | TX
FIRST NATIONAL BANK | TEMPLE | TX
FIRST NATIONAL BANK | CONWAY | AR
FIRST NATIONAL BANK | LITTLE FALLS | MN
FIRST NATIONAL BANK | WARSAW | IN
FIRST NATIONAL BANK | PIERRE | SD
FIRST NATIONAL BANK | BREWSTER | MN
FIRST NATIONAL BANK | BERRYVILLE | AR
FIRST NATIONAL BANK | MONTICELLO | MN
FIRST NATIONAL BANK | WORLAND | WY
FIRST NATIONAL BANK EVERGREEN PARK | EVERGREEN PARK | IL
FIRST NATIONAL BANK FOX VALLEY | NEENAH | WI
FIRST NATIONAL BANK OF MICHIGAN | EAST LANSING | MI
FIRST NATIONAL BANK OF ST PETER | SAINT PETER | MN
FIRST NATIONAL BANK ROCHESTER | ROCHESTER | NY
FIRST NATIONAL BK CENTRAL ILL | SPRINGFIELD | IL
FIRST NATIONAL MORTGAGE CORP | MIAMISBURG | OH
FIRST NEW YORK MORTGAGE CORP | NEW YORK | NY
FIRST PATRIOT MORTGAGE INC | REVERE | MA
FIRST POTOMAC MORTGAGE CORP | FAIRFAX | VA
FIRST REPUBLIC MORTGAGE CORP | SANTA ANA | CA
FIRST SAVINGS AND LOAN ASSN ND | ABERDEEN | SD
FIRST SECURITY MORTGAGE CORP | COLUMBIA | SC
FIRST STATE BANK | LEOTI | KS
FIRST STATE BANK OF SO CA | PARAMOUNT | CA
FIRST STATE BANK SAUK CENTRE | SAUK CENTRE | MN
FIRST TEACHERS FEDERAL CU | SCHENECTADY | NY
FIRST TEXAS MORTGAGE COMPANY | SAN ANTONIO | TX
FIRST VOLUNTEER BANK | UNION CITY | TN
FIVE STAR FINANCIAL SERVICES | SCHAUMBURG | IL
FLAGSHIP FEDERAL SAVINGS BANK | SAN DIEGO | CA
FLEET MORTGAGE-FLEET MTG CORP | MILWAUKEE | WI
FORT WAYNE NATIONAL BANK | FORT WAYNE | IN
FRANCES SLOCUM BANK | WABASH | IN
FTF MORTGAGE CORP | IRVINE | CA
FUNDERS MORTGAGE CORP AMERICA | COVINA | CA
GAMS INC | SUTTER CREEK | CA
GATEWAY RESIDENTIAL GROUP LLC | DES PERES | MO
GENTRY CAPITAL MORTGAGE CORPORATION | PINE BUSH | NY
GEORGIA UNION MORTGAGE CO LP | MACON | GA
GESCO SERVICES LLC | LUBBOCK | TX
GLEN ROCK SAVINGS BANK SLA | GLEN ROCK | NJ
GMAC MORTGAGE GROUP INC | HORSHAM | PA
GOLD COAST FUNDING GROUP INC | DAVIE | FL
GOLD KEY MOPRTGAGE CORPORATION | NASHVILLE | TN
GOLDEN BAY CAPITAL CORPORATION | OAKLAND | CA
GOLDSTAR GROUP INC | BETHESDA | MD
GOMEMX MARKETING GROUP INC | POMONA | CA
GRAND NATIONAL BANK | WAUCONDA | IL
GRANTS STATE BANK | GRANTS | NM
GREAT LAKES FUNDING INC | EDINA | MN
GREAT WESTERN BANK | IRVINE | CA
GREATER FUNDING OF NY INC | CANANDAIGUA | NY
GRIFFIN FEDERAL SAVINGS ALA | GRIFFIN | GA
GSL SAVINGS BANK | GUTTENBERG | NJ
GULF FINANCIAL SERVICES INC | BLAIRSVILLE | GA
H AND R BLOCK MORTGAGE CO LLC | KANSAS CITY | MO
H AND R MORTGAGE INC | BAKERSFIELD | CA
HALLMARK GOVERNMENT MORTGAGE | BELLEVUE | WA
HAMMOND MORTGAGE INC | CUMMING | GA
HAMPSTEAD FINANCIAL CORPORATION | FORT LEE | NJ
HAVERHILL COOPERATIVE BANK | HAVERHILL | MA
HEARTLAND COMMUNITY BANK FSB | MONTICELLO | AR
HEARTLAND MORTGAGE INC | TUCSON | AZ
HIGHLAND FEDERAL S L ASSOC | CROSSVILLE | TN
HILL COUNTRY BANK | AUSTIN | TX
HOLMGREN AND ASSOCIATES | OAKLAND | CA
HOME AMERICA FINANCIAL SERVICES INC | INDIANAPOLIS | IN
HOME BANK | GUNTERSVILLE | AL
HOME LOANS INC | MIAMI | FL
HOME MORTGAGE FIN SRVS CORP | MIAMI | FL
HOMEOWNERS FINANCIAL SERVICES | NORCROSS | GA
HOMEOWNERS MORTGAGE WHOLESALERS INCORP | MARIETTA | GA
HOMEOWNERS MTG AND EQUITY INC | AUSTIN | TX
HORIZON FEDERAL SAVINGS BANK | OSKALOOSA | IA
HOWARD WEIL MORTGAGE CORP | NEW ORLEANS | LA
HUB MORTGAGE SERVICE INC | MARYSVILLE | CA
HUDSON ADVISORS LLC | DALLAS | TX
HUNTINGTON NATIONAL BANK | COLUMBUS | OH
HYDE PARK BANK AND TRUST CO | CHICAGO | IL
IBJ SCHRODER BANK AND TR CO | NEW YORK | NY
ICI FUNDING CORPORATION | SANTA ANA HEIGHTS | CA
IFS DIRECT INCORPORATED | DENVER | CO
IMAGE MORTGAGE INC | TEMECULA | CA
INDEPENDENT BANK | FT LUPTON | CO
INDUSTRIAL BANK | VAN NUYS | CA
INFINITY FINANCIAL SERVICES INC | PROVO | UT
INTEGRATED FISCAL SERVICES INC | WILTON MANORS | FL
INTER-BORO SAVINGS AND LOAN | CHERRY HILL | NJ
INTERAMERICAN FINAN SER INC | MIAMI | FL
IPSWICH CO-OPERATIVE BANK | IPSWICH | MA
J B CORKLAND MORTGAGE CO | KNOXVILLE | TN
JACOBS BANK | SCOTTSBORO | AL
JEFFERSON MORTGAGE GROUP LTD | OAKTON | VA
JEFFERSON NATIONAL BANK | CHARLOTTESVILLE | VA
JEFFERSON SAVINGS BANK | WEST JEFFERSON | OH
JMJ FINANCIAL GROUP | GARDEN GROVE | CA
JOHNSON-ANDERSON MORTGAGE CO | DENVER | CO
JSM FINANCIAL INCORPORATED | FOLSOM | CA
JVS FINANCIAL GROUP INC | WOODRIDGE | IL
JW RIKER NORTHERN RI INC | WARWICK | RI
KANSAS HOME MTG JUNCT CITY INC | JUNCTION CITY | KS
KEMBA COLUMBUS CREDIT UNION | COLUMBUS | OH
KILGORE FIRST NATIONAL BANK | KILGORE | TX
KITSAP FEDERAL CREDIT UNION | SILVERDALE | WA
KLEBERG FIRST NAT MTG CO INC | KINGSVILLE | TX
KZ MORTGAGE LLC | PUYALLUP | WA
LA BANK NA | SCRANTON | PA
LAD FINANCIAL | SAN DIEGO | CA
LAFAYETTE AMERICAN BANK AND TRUST CO | BRIDGEPORT | CT
LEBANON VALLEY NATIONAL BANK | LEBANON | PA
LENDERS ASSOCIATES CORP | MARIETTA | GA
LEOMINSTER CREDIT UNION | LEOMINSTER | MA
LEXINGTON SAVINGS BANK | LEXINGTON | MA
LIBERTY MORTGAGE SERVICES INC DELAWARE | MORRIS PLAINS | NJ
LOAN COMPANY | ASHEVILLE | NC
LOAN SOURCE CORPORATION | WESTLAKE VILLAGE | CA
LOUISIANA CENTRAL BANK | FERRIDAY | LA
LYON COUNTY STATE BANK | EMPORIA | KS
M JAMES AND CO | YARMOUTH | ME
MADISON COUNTY BANK | MADISON | NE
MAGELLAN MORTGAGE LLC | SALEM | OR
MAGNUM CAPITAL GROUP INC | MONARCH BEACH | CA
MAHONING NATIONAL BANK | YOUNGSTOWN | OH
MAIN AMERICA CAPITOL LC | ATLANTA | GA
MARGARET M BROWN INC | RIVERDALE | GA
MARYLAND BANK AND TRUST COMPANY NA | WALDORF | MD
MASTERS FUNDING GROUP INC | RIVERSIDE | CA
MAXIMA FINANCIAL GROUP | TAMPE | AZ
MAYFLOWER COOPERATIVE BANK | MIDDLEBORO | MA
MBI MORTGAG NINETEEN SIXTY INC | HOUSTON | TX
MCNAIR FINANCIAL GROUP INC | INDIANAPOLIS | IN
MEDICAL AREA FEDERAL CREDIT UNION | BOSTON | MA
MEMBERS FIRST FEDERAL CREDIT UNION | MECHANICSBURG | PA
MERCANTILE BANK W CENTRAL MO | SEDALIA | MO
MERCHANTS AND FARMERS BANK | WEST HELENA | AR
MERCHANTS BANK OF CALIFORNIA NA | LAGUNA HILLS | CA
METRO FINANCIAL INC | LAS VEGAS | NV
METROPOLITAN FINANCIAL INC | ORANGE | CA
METROPOLITAN LIFE INS CO | NEW YORK | NY
MEZA GOLD MORTGAGE CORPORATION | RANCHO CUCAMONGA | CA
MICAL MORTGAGE INC | SAN DIEGO | CA
MID AMERICA BANK SOUTH | MANKATO | MN
MID AMERICA MORTGAGE SERVICES | LEAWOOD | KS
MID EAST FINANCIAL SERVICES | NEW YORK | NY
MID FLORIDA FUNDING LTD | LONGWOOD | FL
MIDAMERICA BANK | MAPLEWOOD | MN
MIDDLE TENNESSEE BANK | COLUMBIA | TN
MIDLAND DATA SYSTEMS INC | KANSAS CITY | MO
MIDWEST AMERICA FINANCIAL CORPORATION | CHICAGO | IL
MIDWEST AMERICA MORTGAGE CORPORATION | BROOKLYN PARK | MN
MIDWEST LOAN SERVICES INC | HOUGHTON | MI
MILLENNIUM FUNDING CORP | NORWELL | MA
MINNESOTA'S CREDIT UNION | EAGAN | MN
MINNWEST BANK DAWSON | DAWSON | MN
MISSION NATIONAL BANK | SAN FRANCISCO | CA
MONEYLINE FINANCIAL SERVICE INC | ST LOUIS | MO
MORRIS SMITH FEYH | COLUMBUS | OH
MORTGAGE ACCEPTANCE CORP | CLOSTER | NJ
MORTGAGE ALTERNATIVES INC | SALT LAKE CITY | UT
MORTGAGE ASSOCIATES INC | DIAMOND BAR | CA
MORTGAGE CENTER | WEST SPRINGFIELD | MA
MORTGAGE CENTER CORP | MILLBRAE | CA
MORTGAGE CONSULTANTS INC | SMYRNA | GA
MORTGAGE FINANCIAL SERVICES INC | DALLAS | TX
MORTGAGE MART INC | BLUE BELL | PA
MORTGAGE MATTERS INC | INDIANAPOLIS | IN
MORTGAGE NETWORK INC | SALT LAKE CITY | UT
MORTGAGE NOW INC | SOUTHFIELD | MI
MORTGAGE PLANNING CORPORATION | DENVER | CO
MORTGAGE PROS CORP | MIAMI | FL
MORTGAGE RESOURCES INC | PHOENIX | AZ
MORTGAGE SERVICE CENTER INC | CAMP SPRINGS | MD
MORTGAGE SERVICE CENTER OF S FLORIDA INC | TAMARAC | FL
MORTGAGE STORE | WILLOWBROOK | IL
MUNICIPAL CREDIT UNION | NEW YORK | NY
MURAL COMPANY LLC | PHOENIX | AZ
MUTUAL SAVINGS AND LOAN ASSN | METAIRIE | LA
MUTUAL SAVINGS ASSN | LEAVENWORTH | KS
NATIONAL BANK OF DAINGERFIELD | DAINAGERFIELD | TX
NATIONAL CITY BANK MINNEAPOLIS | MINNEAPOLIS | MN
NATIONAL CITY BANK OF PENNSYLVANIA | PITTSBURGH | PA
NATIONAL HOME FUNDING CORPORATION | CALABASAS | CA
NETWORK LENDERS OF AMERICA INC | LITTLE NECK | NY
NEVADA FEDERAL FINANCIAL CORP | LAS VEGAS | NV
NEXUS FINANCIAL LLC | OAKLAND | NJ
NOREAST MORTGAGE CORPORATION | ONTARIO | CA
NORTH FORK FINANCIAL INC | NEWPORT BEACH | CA
NORTH PACIFIC BANK | TACOMA | WA
NORTHAMERICAN EQUITY CORP | FORT WAYNE | IN
NORTHEAST BANK | MINNEAPOLIS | MN
NORTHERN FINANCIAL MORTGAGE CO | CHAGRIN FALLS | OH
NORTHERN MORTGAGE AND INVESTMENT LTD | FLAGSTAFF | AZ
NORTHWEST LENDING ASSOCIATES | BELLEVUE | WA
NORTHWEST NATIONAL BANK | VANCOUVER | WA
NOVA MORTGAGE CORPORATION | ROCKVILLE | MD
NUNEZ FINANCE CO | MIAMI | FL
OAKWOOD ACCEPTANCE CORPORATION | GREENSBORO | NC
OCALA NATIONAL BANK | OCALA | FL
OCEANMARK FINANCIAL CORP | HOLLYWOOD | FL
OMNI BANK | PONTOON BEACH | IL
ON-SITE MORTGAGE SERVICE | CARMEL | IN
ONE VALLEY BANK—CLARKSBURG | CLARKSBURG | WV
ONE VALLEY BANK OF RONCEVERTE | RONCEVERTE | WV
OZAUKEE BANK | CEDARBURG | WI
PACIFIC EMPIRE FUNDING | LAKE FOREST | CA
PACIFIC NORTHWEST FUNDING GROUP | PALM SPRINGS | CA
PADUCAH BANK AND TRUST COMPANY | PADUCAH | KY
PAINE WEBBER REAL EST SEC INC | NEW YORK | NY
PALM BEACH FINANCIAL NETWORK INC | JUPITER | FL
PALMYRA STATE BANK | WEST QUINCY | MO
PAN-AMERICAN LIFE INS CO | NEW ORLEANS | LA
PAWLING SAVINGS BANK | FISHKILL | NY
PENNIES TO MILLIONS INC | UPLAND | CA
PEOPLES BANK | SANDY HOOK | KY
PEOPLES MORTGAGE CORPORATION | UNION | NJ
PERPETUAL SAVINGS BANK FSB | CEDAR RAPIDS | IA
PFG INC | ENCINO | CA
PFI BANCORP INC | INDIANAPOLIS | IN
PHOENIX HOME LENDING INC | TEMPE | AZ
PHOENIX HOME MORTGAGE CORP | ROCKVILLE | MD
PINNACLE FUNDING GROUP | FT MYERS | FL
PIONEER BANK CHATTANOOGA | CHATTANOOGA | TN
PIONEER BANK FSB | CHATTANOOGA | TN
PIONEER CITIZENS BANK | RENO | NV
PIONEER FEDERAL SAVINGS BANK | WINCHESTER | KY
PIONEER SAVINGS AND LOAN ASSOC FSLA | IRVINE | CA
PLATINUM MORTGAGE | ROSEVILLE | MN
PLATTSMOUTH STATE BANK | PLATTSMOUTH | NE
PNC BANK KENTUCKY INC | LOUISVILLE | KY
PNC BANK OHIO NA | CINCINNATI | OH
POINSETT BANK FSB | GREENVILLE | SC
POLICE AND FIRE FEDERAL CU | PHILADELPHIA | PA
POLLARI WRIGHT INC | SAN JOSE | CA
POST OAK FINANCIAL LLC | HOUSTON | TX
PREFERRED EQUITY MORTGAGE CORP | INDIANAPOLIS | IN
PREMIER BANK | JEFFERSON CITY | MO
PRESERV FINANCIAL INC | DENVER | CO
PRESIDENTIAL MTG AND FINAN INC | ORANGE | CA
PRESTIGE MORTGAGE INC | SAN ANTONIO | TX
PRESTIGE MORTGAGE LLC | SOUTHINGTON | CT
PRIME BANK OF CENTRAL FLORIDA | TITUSVILLE | FL
PRIME FINANCIAL NETWORK INC | LA JOLLA | CA
PRIME MORTGAGE INVESTORS | CORAL GABLES | FL
PRIMERCHANT CAPITAL CORPORATION | SHERMAN OAKS | CA
PROVIDENT MUT LIFE INS PHIL | BERWYN | PA
QMD INC | DENVER | CO
R AND J MORTGAGE SERVICE INC | LEDGEWOOD | NJ
R E I INC | ORANGE | CA
RANCHO MORTGAGE CORPORATION | UPLAND | CA
REDLANDS FEDERAL SAVINGS AND LOAN ASSN | REDLANDS | CA
REHABILITATION LOAN CORP | KANSAS CITY | MO
RELOCATION MORTGAGE SERVICE INC | PLYMOUTH | MN
REPUBLIC SECURITY BANK FSB | WEST PALM BEACH | FL
RESIDENTIAL FINANCIAL SRVS INC | HOLLYWOOD | FL
RESIDENTIAL MORTGAGE BANKING | HAUPPAUGE | NY
RESIDENTIAL MORTGAGE LLC | OGDEN | UT
RICHLAND MORTGAGE INC | FORT WORTH | TX
RICK BAILEY MORTGAGE UNLIMITED INC | ARCATA | CA
RIO GRANDE MORTGAGE CORP | ALBUQUERQUE | NM
RIVER VALLEY MORTGAGE INC | ROSEVILLE | MN
RIVERTON STATE BANK | RIVERTON | WY
RMST MORTGAGE INC | NORTH PROVIDENCE | RI
ROCKINGHAM HERITAGE BANK | HARRISONBURG | VA
ROKLOUD FUNDING INC | SARASOTA | FL
ROSLYN SAVINGS BANK | ROSLYN | NY
ROTHSCHILD FINANCIAL GROUP | OCALA | FL
ROYAL MORTGAGE INC | HUNTINGTON WOODS | MI
SAFE RITE CAPITAL CORP | SOLVANG | CA
SANDWICH COOPERATIVE BANK | SANDWICH | MA
SANDY SPRING NATIONAL BANK—MD | SILVER SPRING | MD
SANTIAM MORTGAGE MORTGAGE CORP | LEBANON | OR
SASCO INC | ENCINO | CA
SEABOARD EMPLOYEES CREDIT UNION | JAACKSONVILLE | FL
SECURED LENDERS MORTGAGE | MERCED | CA
SECURITY BANK AND TRUST CO | LAWTON | OK
SECURITY BANK HARRISON | HARRISON | AR
SECURITY MTG AND INVESTMENT CO | INWOOD | WV
SECURITY STATE BANK | ABILENE | TX
SECURITY TRUST AND SAVINGS BANK | SHENANDOAH | IA
SENIOR LOAN CENTER INC | CARMICHAEL | CA
SENTINEL MORTGAGE LLC | TUCSON | AZ
SERVE CORPS MORTGAGE INC | NAPERVILLE | IL
SHARON CREDIT UNION | SHARON | MA
SHELTER MORTGAGE SERVICES INC | CHERRY HILL | NJ
SHOPTAW JAMES INC | ATLANTA | GA
SHORE BANK | ONLEY | VA
SHORE BANK AND TRUST | CLEVELAND | OH
SHORELINE FUNDING | LONG BEACH | CA
SILSBEE STATE BANK | SILSBEE | TX
SOUTH CAROLINA FEDERAL SAVINGS BANK | COLUMBIA | SC
SOUTHCOAST FINANCIAL GROUP | NORTH DARTMOUTH | MA
SOUTHERN FINANCIAL MORTGAGE CORP | CUMMING | GA
SOUTHERN HERITAGE MORTGAGE | ATLANTA | GA
SOUTHERN STATES FUNDING | WINTER PARK | FL
SOUTHLAND MORTGAGE FINANCING CORP | FORT WALTON BEACH | FL
SOUTHSIDE BANK | TAPPAHANNOCK | VA
SOUTHWEST FEDERAL SAVINGS AND LOAN ASSN | CHICAGO | IL
SPOKANE RAILWAY CREDIT UNION | SPOKANE | WA
STALLION CAPITAL INC | RANCHO CUCAMONGA | CA
STATE BANK LA CROSSE | LA CROSSE | WI
STATE SAVINGS BANK | DUBLIN | OH
STATE STREET BANK AND TRUST COMPANY NA | NEW YORK | NY
STATE TEACHERS RT BOARD OHIO | COLUMBUS | OH
STOCKMENS NATIONAL BANK | RUSHVILLE | NE
STUART-WRIGHT MTG FUNDING COR | MURRAY | UT
SUBURBAN FEDERAL SAVINGS FSB | HARVEY | IL
SUMMIT BANK | AKRON | OH
SUMMIT FUNDING INC | LAS VEGAS | NV
SUMMIT SAVINGS FSB | ROHNERT PARK | CA
SUN CITY BANK | SUN CITY | AZ
SUN FEDERAL FINANCIAL CORP | MIAMI | FL
SUN PACIFIC FUNDING INC | SANTA ANA | CA
SUN WORLD NA | EL PASO | TX
SUNTRUST BANK SOUTH CENTRAL TN | LAWRENCEBURG | TN
SUNTRUST BANK TALLAHASSEE NA | TALLAHASSEE | FL
SUNTRUST FINANCIAL CORP | HOLLYWOOD | FL
SUNWEST BANK OF FARMINGTON | FARMINGTON | NM
SUPERIOR MORTGAGE SERVICES INC | LANHAM | MD
SUTTER MORTGAGE CORPORATION | WALNUT CREEK | CA
TAG FUNDING CORP | WOODLAND HILLS | CA
TENNESSEE BANK AND TRUST | MEMPHIS | TN
TEXAS CAPITAL MORTGAGE | HOUSTON | TX
THE-HOMETOWN BANK | CLYDE | NC
THIRD FEDERAL SAVINGS BANK | NEWTOWN | PA
TINTON FALLS STATE BANK | TINTON FALLS | NJ
TOM WOOD MORTGAGE INC | INDIANAPOLIS | IN
TOWER FINANCIAL SERVICES LLC | PASADENA | MD
TOWNE CENTER PROPERTIES INCORPORATED | CERRITOS | CA
TOWNE SQUARE MORTGAGE | SAN DIEGO | CA
TOYOTA MOTORS FEDERAL CR UN | TORRANCE | CA
TRANS-MUTUAL MORTGAGE BANKERS | CORAL GABLES | FL
TRANSFINANCIAL BANK | BOWLING GREEN | KY
TRENTON SAVINGS BANK | LAWERENCEVILLE | NJ
TRI COUNTY STATE BANK | CHAMBERLAIN | SD
TRI STAR AMERICA MORTGAGE CORP | TOLEDO | OH
TRI-STAR FUNDING CORPORATION | DALLAS | TX
TRINIDAD MORTGAGE | TRINIDAD | CO
TURNER MORTGAGE CORP | MIAMI LAKES | FL
TWENTIETH CENTURY FOX FCU | LOS ANGELES | CA
U S MORTGAGE CONSULTANTS INC | LAS VEGAS | NV
UBS MORTGAGE FINANCE INC | NEW YORK | NY
UNICOR MORTGAGE INC | BATON ROUGE | LA
UNIFED MORTGAGE CORP | SAN DIEGO | CA
UNIFIRST FEDERAL SAVINGS BANK | HOLLYWOOD | FL
UNION BANK OF MENA | MENA | AR
UNION PLANTERS BANK LAKEWAY AREA | KNOXVILLE | TN
UNITED BANK AND TRUST CO | VERSAILLES | KY
UNITED BANK OF-PHILADELPHIA | PHILADELPHIA | PA
UNITED CENTRAL BANK | GARLAND | TX
UNITED HOME LENDING SERVICES INC | CHARLESTON | WV
UNITED LENDING COMPANIES INC | RAMSEY | NJ
UNITED MORTGAGE INC | TULSA | OK
UNITED SECURITY SAVINGS BANK | MARION | IA
UNITED SOUTHERN MORTGAGE CORP ROANOKE | VIRGINIA BEACH | VA
US CREDIT CORP | AURORA | CO
US MORTGAGE INC | LITTLE ROCK | AR
US NEW MEXICO FEDERAL CU | ALBUQUERQUE | NM
USB MORTGAGE COMPANY INC | SPOKANE | WA
VICTORIA STATE BANK | VICTORIA | MN
VICTORY BANK AND TRUST COMPANY | CORDOVA | TN
VIKING MORTGAGE SERVICES INC | PORT ORCHARD | WA
VILLA PARK TRUST AND SAVINGS BANK | VILLA PARK | IL
VILLAGE BANK AND TRUST CO | RIDGEFIELD | CT
VINTAGE BANK | NAPA | CA
W LYMAN CASE AND CO | COLUMBUS | OH
WEALTHWISE INVESTMENT CORP | MILPITAS | CA
WEST ALLIS SAVINGS BANK SA | WEST ALLIS | WI
WESTERN CAPITAL FUNDING INC | WILDOMAR | CA
WESTERN MORTGAGE EXPRESS | EL CENTRO | CA
WESTMONT MORTGAGE SERVICES INC | DENVER | CO
WHITE OAK MORTGAGE | TEXARKANA | TX
WILSHIRE FUNDING CORPORATION | PORTLAND | OR

Dated: January 4, 2000.
William C. Apgar,
Assistant Secretary for Housing-Federal Housing Commissioner, Chairman,Mortgagee Review Board.

[FR Doc. 00-2893 Filed 2-10-00; 8:45 am]

BILLING CODE 4210-27-P